INTERNATIONAL TRADE COMMISSION

[Investigation No. 731-TA-749 (Third Review)]

Persulfates From China; Revised Schedule for the Subject Investigation

AGENCY: United States International Trade Commission.

ACTION: Notice.

DATES: Effective Date: October 22, 2013.

FOR FURTHER INFORMATION CONTACT: Angela M. W. Newell (202-708-5409), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On August 21, 2013, the Commission established a schedule for the conduct of the subject investigation (78 FR 52969, August 27, 2013). The Commission did not operate between October 1, 2013, and October 16, 2013, because of a lack of appropriations. On October 21, 2013, the Commission issued a notice stating that statutory deadlines would be tolled by this disruption in its operations. The Commission, therefore, is revising its schedule to conform to the revised statutory deadlines.

The Commission's new schedule for the review is as follows: requests to appear at the hearing must be filed with the Secretary to the Commission not later than January 7, 2014; the prehearing conference will be held at the U.S. International Trade Commission Building at 9:30 a.m. on January 8, 2014; the prehearing staff report will be placed in the nonpublic record on December 19, 2013; the deadline for filing prehearing briefs is January 7, 2014; the hearing will be held at the U.S. International Trade Commission Building at 9:30 a.m. on January 16, 2014; the deadline for filing posthearing briefs is January 23, 2014; the Commission will make its final release of information on February 13, 2014; and final party comments are due on February 18, 2014.

For further information concerning this investigation see the Commission's notice cited above and the Commission's Rules of Practice and Procedure, part 201, subparts A through E (19 CFR part 201), and part 207, subparts A and F (19 CFR part 207).

Authority: This investigation is being conducted under authority of title VII of the Tariff Act of 1930; this notice is published pursuant to section 207.62 of the Commission's rules.

Issued: October 23, 2013.
By order of the Commission.
Lisa R. Barton,
Acting Secretary to the Commission.

[FR Doc. 2013-25316 Filed 10-25-13; 8:45 am]

BILLING CODE 7020-02-P